ENVIRONMENTAL PROTECTION AGENCY

40 CFR Chapter 1

[FRL-7564-2]

Advisory Committee for Regulatory Negotiation Concerning All Appropriate Inquiry; Meeting

AGENCY: Environmental Protection Agency.

ACTION: Meeting of Negotiated Rulemaking Committee on all appropriate inquiry.

SUMMARY: The Environmental Protection Agency, as required by the Federal Advisory Committee Act (Pub. L. 92-463), is announcing an extension to the dates of an upcoming meeting of the Negotiated Rulemaking Committee on All Appropriate Inquiry.

DATES: As announced in the Federal Register on September 12, 2003 (68 FR 53687), a meeting of the Federal Advisory Committee tasked with negotiating a proposed rule on All Appropriate Inquiry is scheduled for October 14 and October 15, 2003. EPA is announcing that the Committee also will meet on October 16, 2003. The location for the meeting is provided below. Dates and locations of subsequent meetings will be announced in later notices.

ADDRESSES: The meeting will take place at the EPA East Building, 1201 Constitution Avenue NW., Washington, DC 20460. The meeting is scheduled to begin at 8:30 a.m. and end at 4:30 p.m. on all three days, October 14, October 15, and October 16.

FOR FURTHER INFORMATION CONTACT: Persons needing further information should contact Patricia Overmeyer of EPA's Office of Brownfields Cleanup and Redevelopment, 1200 Pennsylvania Ave., NW., Mailcode 5105T, Washington, DC 20460, (202) 566-2774, or overmeyer.patricia@epa.gov.

SUPPLEMENTARY INFORMATION: Under the Small Business Liability Relief and Brownfields Revitalization Act, EPA is required to develop standards and practices for carrying out all appropriate inquiry. The Federal Advisory Committee meeting is for the purpose of negotiating the contents of a proposed regulation setting federal standards and practices for conducting all appropriate inquiry. At its meeting on October 14, 15, and 16, 2003, the Committee's agenda will include a continuation of substantive deliberations on the proposed rulemaking including discussions on recommendations for proposed regulatory language for addressing each of the criteria established by Congress in the Small Business Liability Relief and Brownfields Revitalization Act amendments to CERCLA (101)(35)(B)(iii).

All meetings of the Negotiated Rulemaking Committee are open to the public. There is no requirement for advance registration for members of the public who wish to attend or make comments at the meeting. Opportunity for the general public to address the Committee will be provided starting at 2:30 p.m. on each day.

Dated: September 22, 2003.
Thomas P. Dunne,
Associate Assistant Administrator, EPA Office of Solid Waste and Emergency Response.

[FR Doc. 03-24403 Filed 9-25-03; 8:45 am]

BILLING CODE 6560-50-P